NUCLEAR REGULATORY COMMISSION

[NRC-2014-0010]

Biweekly Notice; Applications and Amendments to Facility Operating Licenses and Combined Licenses Involving No Significant Hazards Considerations

Background

Pursuant to Section 189a.(2) of the Atomic Energy Act of 1954, as amended (the Act), the U.S. Nuclear Regulatory Commission (NRC) is publishing this regular biweekly notice. The Act requires the Commission to publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from December 26, 2013 to January 8, 2014. The last biweekly notice was published on January 7, 2014 (79 FR 855).

ADDRESSES: You may submit comments by any of the following methods (unless this document describes a different method for submitting comments on a specific subject):

• Federal Rulemaking Web site: Go to http://www.regulations.gov and search for Docket ID NRC-2014-0010. Address questions about NRC dockets to Carol Gallagher; telephone: 301-287-3422; email: Carol.Gallagher@nrc.gov.

• Mail comments to: Cindy Bladey, Chief, Rules, Announcements, and Directives Branch (RADB), Office of Administration, Mail Stop: 3WFN-06-44M, U.S. Nuclear Regulatory Commission, Washington, DC 20555-0001.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2014-0010 when contacting the NRC about the availability of information regarding this document. You may access publicly-available information related to this document by any of the following methods:

• Federal Rulemaking Web site: Go to http://www.regulations.gov and search for Docket ID NRC-2014-0010.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this document (if that document is available in ADAMS) is provided the first time that a document is referenced.

• NRC's PDR: You may examine and purchase copies of public documents at the NRC's PDR, Room O1-F21, One White Flint North, 11555 Rockville Pike, Rockville, Maryland 20852.

B. Submitting Comments

Please include Docket ID NRC-2014-0010 in the subject line of your comment submission, in order to ensure that the NRC is able to make your comment submission available to the public in this docket.

The NRC cautions you not to include identifying or contact information that you do not want to be publicly disclosed in you comment submission. The NRC will post all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Agency Rules of Practice and Procedure” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC's E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email to MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as social security numbers, home addresses, or home phone numbers in their filings, unless an NRC regulation or other law requires submission of such information. However, a request to intervene will require including information on local residence in order to demonstrate a proximity assertion of interest in the proceeding. With respect to copyrighted works, except for limited excerpts that serve the purpose of the adjudicatory filings and would constitute a Fair Use application, participants are requested not to include copyrighted materials in their submission.

Petitions for leave to intervene must be filed no later than 60 days from the date of publication of this notice. Requests for hearing, petitions for leave to intervene, and motions for leave to file new or amended contentions that are filed after the 60-day deadline will not be entertained absent a determination by the presiding officer that the filing demonstrates good cause by satisfying the three factors in 10 CFR 2.309(c)(1)(i)-(iii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Duke Energy Carolinas, LLC, Docket Nos. 50-369 and 50-370, McGuire Nuclear Station, Units 1 and 2, Mecklenburg County, North Carolina

Date of amendment request: October 28, 2013. A publicly available version is available in ADAMS under Accession No. ML13304B445.

Description of amendment request: This amendment request contains sensitive unclassified non-safeguards information. The amendments request for a one-time change to Technical Specification 3.8.4, “DC Sources-Operating” for battery replacement.

Basis for proposed no significant hazards consideration determination: As required by 10 CFR 50.91(a), the licensee has provided its analysis of the issue of no significant hazards consideration, which is presented below:

1. Does the proposed amendment involve a significant increase in the probability or consequences of an accident previously evaluated?

Response: No.

Removing one vital battery from service for a limited period of time does not involve a significant increase in the probability or consequences of an accident.

All four vital batteries have been sized to carry the load duty cycle for their respective bus/train while maintaining battery terminal voltage in a cross-tied alignment during a LOOP with a DBE on one unit and safe shut down of the other unit. The vital battery cross-tie alignment is part of the McGuire licensing basis, is in the Technical Specifications, and is routinely performed.

In addition, for defense-in-depth and risk mitigation measures, a fully sized temporary battery will be available as a defense in depth, back-up DC power supply for plant recovery and accident mitigation.

Therefore, the proposed change does not involve a significant increase in the probability or consequences of an accident previously evaluated.

2. Does the proposed amendment create the possibility of a new or different kind of accident from any accident previously evaluated?

Response: No.

Operation in accordance with the proposed LAR does not create a new plant configuration, nor adversely affect how the plant is currently operated. During the time period of each vital battery bank replacement, the associated DC channel will remain energized by being cross-tied to another operable DC channel as designed and as allowed by TS 3.8.4. This is a normal plant alignment, it maintains train independence, and is performed numerous times during a fuel cycle for vital battery maintenance and surveillance testing. No new accident causal mechanisms are created as a result of this proposed LAR. No changes are being made to any structure, system, or component which will introduce any new accident causal mechanisms. The temporary battery remains physically and electrically isolated from the rest of the 125VDC system via an open disconnect switch. The cable between the spare charger and the disconnect will remain de-energized by isolation from the charger's DC output breaker and both crosstie breakers. This proposed LAR does not impact any plant systems that are accident initiators and does not impact any safety analysis.

Therefore, the proposed changes do not create the possibility of a new or different kind of accident from any accident previously evaluated.

3. Does the proposed amendment involve a significant reduction in the margin of safety?

Response: No.

The proposed LAR does not physically alter the present plant design nor affect how the plant is currently operated. This activity only extends the amount of time that vital DC channels are allowed to be cross-tied. So a significant reduction in the margin of safety does not occur.

Margin of safety is related to the confidence in the ability of the fission product barriers to perform their design functions during and following an accident situation. These barriers include the fuel cladding, the reactor coolant system, and the containment system. The performance of the fuel cladding, reactor coolant and containment systems will not be impacted by the proposed LAR.

Therefore, it is concluded that the proposed changes do not involve a significant reduction in the margin of safety.

Based upon the above evaluation, Duke Energy concludes that the proposed amendment presents no significant hazards consideration under the standards set forth in 10 CFR 50.92(c) and, accordingly, a finding of “no significant hazards consideration” is justified.

The NRC staff has reviewed the licensee's analysis and, based on this review, it appears that the three standards of 10 CFR 50.92(c) are satisfied. Therefore, the NRC staff proposes to determine that the amendment request involves no significant hazards consideration.

Attorney for licensee: Lara S. Nichols, Associate General Counsel, Duke Energy Corporation, 526 South Church Street—EC07H, Charlotte, NC 28202.

NRC Branch Chief: Robert J. Pascarelli.

Energy Northwest, Docket No. 50-397, Columbia Generating Station, Benton County, Washington

Date of amendment request: October 2, 2013.

Description of amendment request: The proposed amendment incorporates Technical Specification Task Force (TSTF) Traveler TSTF-493-A, Revision 4, “Clarify Application of Setpoint Methodology for LSSS [limiting safety system settings] Functions,” Option A. The availability of this Technical Specification (TS) improvement was announced in the Federal Register on May 11, 2010 (75 FR 26294). The proposed amendment would revise the TSs by adding requirements to assess channel performance during testing that verifies instrument channel setting values established by plant-specific setpoint methodologies to all the functions identified in TSTF-493, Revision 4, Appendix A.

Basis for proposed no significant hazards consideration determination: As required by 10 CFR 50.91(a), the licensee has provided its analysis of the issue of no significant hazards consideration, which is presented below:

1. Does the proposed change involve a significant increase in the probability or consequences of an accident previously evaluated?

Response: No.

The proposed change adds test requirements to TS instrument Functions related to those variables that have a significant safety function to ensure that instruments will function as required to initiate protective systems or actuate mitigating systems at the point assumed in the applicable safety analysis.

Surveillance tests are not an initiator to any accident previously evaluated. As a result, the probability of any accident previously evaluated is not significantly increased. The systems and components required by the TS for which surveillance Notes are added are still required to be operable, meet the acceptance criteria for the surveillance requirements, and be capable of performing any mitigation function assumed in the accident analysis.

Therefore, the proposed change does not involve a significant increase in the probability or consequences of an accident previously evaluated.

2. Does the proposed change create the possibility of a new or different kind of accident from any accident previously evaluated?

Response: No.

The change does not involve a physical alteration of the plant, i.e., no new or different type of equipment will be installed. The change does not alter assumptions made in the safety analysis but ensures that the instruments perform as assumed in the accident analysis. The proposed change is consistent with the safety analysis assumptions. Therefore, the proposed change does not create the possibility of a new or different kind of accident from any previously evaluated.

3. Does the proposed change involve a significant reduction in a margin of safety?

Response: No.

The proposed change adds test requirements that will assure that TS instrumentation AVs [allowable values] (1) will be limiting settings for assessing instrument channel operability and (2) will be conservatively determined so that evaluation of instrument performance history and the ALT [as-left tolerance] requirements of the calibration procedures will not have an adverse effect on equipment operability. The testing methods and acceptance criteria for systems, structures, and components specified in applicable codes and standards (or alternatives approved for use by the NRC) will continue to be met as described in the plant licensing basis including the updated FSAR [final safety analysis report]. There is no impact to safety analysis acceptance criteria as described in the plant licensing basis because no change is made to the accident analysis assumptions.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: William A. Horin, Esq., Winston & Strawn, 1700 K Street NW., Washington, DC 20006-3817.

NRC Branch Chief: Michael T. Markley.

FirstEnergy Nuclear Operating Company, et al., Docket Nos. 50-334 and 50-412, Beaver Valley Power Station, Units 1 and 2, Beaver County, Pennsylvania

Date of amendment request: October 18, 2013.

Description of amendment request: The amendment would change the Beaver Valley Power Station Technical Specifications (TS). Specifically, this change request involves the adoption of an approved change to the standard TS for Westinghouse plants (NUREG-1431), to allow relocation of specific TS surveillance frequencies to a licensee-controlled program. The proposed change is described in TS Task Force (TSTF) Traveler, TSTF-425, Revision 3, “Relocation Surveillance Frequencies to Licensee Control—RITSTF Initiative 5b” (ADAMS Accession No. ML090850642). A Notice of Availability was published in the Federal Register on July 6, 2009 (74 FR 31996).

The proposed change relocates surveillance frequencies to a licensee-controlled program, the Surveillance Frequency Control Program. This change is applicable to licensees using probabilistic risk guidelines contained in NRC-approved NEI 04-10, Revision 1, “Risk-Informed Technical Specifications Initiative 5b, Risk-Informed Method for Control of Surveillance Frequencies” (ADAMS Accession No. ML071360456).

Basis for proposed no significant hazards consideration determination: As required by 10 CFR 50.91(a), the licensee has provided its analysis of the issue of no significant hazards consideration, which is presented below, along with NRC edits in square brackets:

1. Do the proposed changes involve a significant increase in the probability or consequences of an accident previously evaluated?

Response: No.

The proposed change relocates the specified frequencies for periodic surveillance requirements to licensee control under a new Surveillance Frequency Control Program. Surveillance frequencies are not an initiator to any accident previously evaluated. As a result, the probability of any accident previously evaluated is not significantly increased. The systems and components required by the technical specifications for which the surveillance frequencies are relocated are still required to be operable, meet the acceptance criteria for the surveillance requirements, and be capable of performing any mitigation function assumed in the accident analysis. As a result, the consequences of any accident previously evaluated are not significantly increased.

Therefore, the proposed change does not involve a significant increase in the probability or consequences of an accident previously evaluated.

2. Do the proposed changes create the possibility of a new or different kind of accident from any accident previously evaluated?

Response: No.

No new or different accidents result from utilizing the proposed change. The changes do not involve a physical alteration of the plant (that is, no new or different type of equipment will be installed) or a change in the methods governing normal plant operation. In addition, the changes do not impose any new or different requirements. The changes do not alter assumptions made in the safety analysis. The proposed changes are consistent with the safety analysis assumptions and current plant operating practice.

Therefore, the proposed change does not create the possibility of a new or different kind of accident from any accident previously evaluated.

3. Do the proposed changes involve a significant reduction in a margin of safety?

Response: No.

The design, operation, testing methods, and acceptance criteria for systems, structures, and components (SSCs), specified in applicable codes and standards (or alternatives approved for use by the NRC) will continue to be met as described in the plant licensing basis (including the final safety analysis report and bases to the TS), since these are not affected by changes to the surveillance frequencies. Similarly, there is no impact to safety analysis acceptance criteria as described in the plant licensing basis.

To evaluate a change in the relocated surveillance frequency, [FirstEnergy Nuclear Operating Co.] FENOC will perform a probabilistic risk evaluation using the guidance contained in NRC approved Nuclear Energy Instituted (NEI) 04-10, Revision 1, in accordance with the TS Surveillance Frequency Control Program. NEI 04-10, Revision 1, methodology provides reasonable acceptance guidelines and methods for evaluating the risk increase of proposed changes to surveillance frequencies consistent with Regulatory Guide 1.177, “An Approach for Plant-Specific, Risk Informed Decisionmaking: Technical Specifications.”

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David W. Jenkins, FirstEnergy Nuclear Operating Company, FirstEnergy Corporation, 76 South Main Street, Akron, OH 44308.

Acting NRC Branch Chief: John G. Lamb.

Omaha Public Power District, Docket No. 50-285, Fort Calhoun Station, Unit 1, Washington County, Nebraska

Date of amendment request: February 18, 2013.

Description of amendment request: The proposed amendment would revise Technical Specification (TS) Definitions and TS Sections 2.0.1 and 2.7 for Inoperable System, Subsystem or Component Due to Inoperable Power Source. Specifically, the proposed amendment would: (1) Revise the definition for Operable—Operability in the Fort Calhoun Station TS; (2) modify the provisions under which equipment may be considered operable when either its normal or emergency power source is inoperable; and (3) revise the minimum requirement statement in TS 2.7 to the wording previously reviewed and approved by the NRC in Amendment No. 147 dated August 2, 1992.

Basis for proposed no significant hazards consideration determination: As required by 10 CFR 50.91(a), the licensee has provided its analysis of the issue of no significant hazards consideration, which is presented below:

1. Does the proposed amendment involve a significant increase in the probability or consequences of an accident previously evaluated?

Response: No.

The proposed change to revise the definition of operable-operability, modify the provisions under which equipment may be considered operable when either its normal or emergency power source is inoperable, add Technical Specification (TS) limiting conditions for operation (LCO) 2.0.1(2), and relocate the guidance for inoperable power supplies and verifying operability of redundant components into the LCO for electrical equipment is more aligned with NUREG-0212, Revision 2, Standard Technical Specifications [STS] for Combustion Engineering Plants, and does not adversely impact the probability of an accident previously evaluated. The proposed change does not affect the operability requirements for the emergency diesel generators (DGs) or the house service transformers, and therefore does not impact the consequences of an analyzed accident. In addition, the administrative changes to renumber the existing TS sections “TS 2.0.1(2) to 2.0.1(3)” is being made as a result of additions to previous TS paragraphs and are being made for consistency and clarification. Also, revising the minimum requirement statement in TS 2.7 to the wording previously reviewed and approved by the NRC in Amendment 147 is an administrative change as the wording reverted to its pre-Amendment 147. This wording simply corrects previous administrative errors when TS Amendment 162 was issued on March 29, 1994.

Therefore, the proposed change does not involve a significant increase in the probability or consequences of an accident previously evaluated.

2. Does the proposed amendment create the possibility of a new or different kind of accident from any accident previously evaluated?

Response: No.

The proposed changes do not involve a physical alteration to the plant (i.e., no new or different type of equipment will be installed) or a change in methods governing normal plant operation. The proposed changes to TS 2.0.1(2) and TS 2.7 do not create the possibility of a new or different kind of accident since the design function of the affected equipment is not changed. No new interactions between systems or components are created. No new failure mechanisms of associated systems will exist.

No new failure mechanisms would be created. The proposed changes do not alter any assumptions made in the safety analyses.

Therefore, the proposed changes do not create the possibility of a new or different kind of accident from any previously evaluated.

3. Does the proposed amendment involve a significant reduction in a margin of safety?

Response: No.

The proposed changes to add TS 2.0.1(2) and relocate the guidance for inoperable power supplies and verifying operability of redundant components from TS LCO 2.7 do not alter the manner in which safety limits or limiting safety system settings are determined. The safety analysis acceptance criteria are not affected by these proposed changes. The sources of power credited for design basis events are not affected by the proposed changes.

The proposed changes to modify the provisions under which equipment may be considered operable when either its normal or emergency power source is inoperable, and relocate the guidance for inoperable power supplies and verifying operability of redundant components into the

TS 2.0.1 LCO is more aligned with the STS contained in NUREG-0212.

Further, the proposed change does not change the design function of any equipment assumed to operate in the event of an accident.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: David A. Repka, Esq., Winston & Strawn, 1700 K Street NW., Washington, DC 20006-3817.

NRC Branch Chief: Michael T. Markley.

Southern Nuclear Operating Company, Inc. Docket Nos. 52-025 and 52-026, Vogtle Electric Generating Plant, Units 3 and 4, Burke County, Georgia

Date of amendment request: November 27, 2013.

Description of amendment request: The requested amendment reclassifies portions of the five Tier 2* Human Factors (HF) Verification & Validation (V&V) planning documents listed in the Updated Final Safety Analysis Report (UFSAR) Table 1.6-1 and Chapter 18, Subsection 18.11.2. These five documents outline the overall plan for the HF V&V, including the Human Factors Engineering (HFE) design verification, task support verification, integrated system validation, discrepancy resolution process, and verification at plant startup. The licensee stated that the requested amendment identifies the portions of the five HF V&V planning documents that would more appropriately be classified as Tier 2, due to those portions having no impact on safety, and proposes the necessary departures to reclassify this information. This differentiation between Tier 2 and Tier 2* information in the HF V&V planning documents will allow for revisions of these documents using the Tier 2 change process provided in 10 CFR Part 52, Appendix D, Section VIII.B.5.

Basis for proposed no significant hazards consideration determination: As required by 10 CFR 50.91(a), the licensee has provided its analysis of the issue of no significant hazards consideration, which is presented below:

1. Does the proposed amendment involve a significant increase in the probability or consequences of an accident previously evaluated?

Response: No.

The proposed changes reclassify portions of the five Tier 2* Human Factors (HF) Verification & Validation (V&V) planning documents listed in the Updated Final Safety Analysis Report (UFSAR). These changes do not modify the design, construction, or operation of any plant structures, systems, or components (SSC), nor do they change any procedures or method of control for any SSCs. Because the proposed changes do not change the design, construction, or operation of any SSCs, they do not adversely affect any design function as described in the UFSAR. Therefore, the proposed amendment does not affect the probability of an accident previously evaluated. Similarly, because the proposed changes do not alter the design or operation of the nuclear plant or any plant SSCs, the proposed changes do not represent a change to the radiological effects of an accident, and therefore, they do not involve an increase in the consequences of an accident previously evaluated.

Therefore, the proposed amendment does not involve a significant increase in the probability or consequences of an accident previously evaluated.

2. Does the proposed amendment create the possibility of a new or different kind of accident from any accident previously evaluated?

Response: No.

The proposed changes are not a modification, addition to, or removal of any plant SSCs. Furthermore, the proposed changes are not a change to procedures or method of control of the nuclear plant or any plant SSCs. The only impact of this activity is the reclassification of portions of the five HF V&V planning documents as Tier 2 information. Because the proposed amendment does not change the design, construction, or operation of the nuclear plant or any plant operations, it does not affect the possibility of an accident.

Therefore, the proposed amendment does not create the possibility of a new or different kind of accident from any accident previously evaluated.

3. Does the proposed amendment involve a significant reduction in a margin of safety?

Response: No.

The proposed changes reclassify portions of the five Tier 2* HF V&V planning documents listed in the UFSAR from Tier 2* to Tier 2. The proposed amendment only affects the classification of planning documents and does not change the design, construction, or operation of the nuclear plant or any plant operations; therefore, the changes do not affect any margin of safety.

Therefore, the proposed amendment does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Blach & Bingham LLP, 1710 Sixth Avenue North, Birmingham, AL 35203-2015.

NRC Branch Chief: Lawrence J. Burkhart.

Union Electric Company, Docket No. 50-483, Callaway Plant, Unit 1, Callaway County, Missouri

Date of amendment request: September 26, 2013.

Description of amendment request: The proposed amendment would revise Technical Specification (TS) Surveillance Requirement (SR) 3.7.10.1 and SR 3.7.13.1 to reduce the required run time for periodic operation of the control room pressurization system filter trains and emergency exhaust system filter trains, with heaters on, from 10 hours to 15 minutes, consistent with Technical Specifications Task Force (TSTF) change traveler TSTF-522-A, Revision 0, “Revise Ventilation System Surveillance Requirements to Operate for 10 hours per Month,” with minor variations. The Notice of Availability and model safety evaluation of the TS improvement were published in the Federal Register on September 20, 2012 (77 FR 58421).

Basis for proposed no significant hazards consideration determination: As required by 10 CFR 50.91(a), the licensee has provided its analysis of the issue of no significant hazards consideration, which is presented below:

1. Does the proposed change involve a significant increase in the probability or consequences of an accident previously evaluated?

Response: No.

The proposed change replaces existing Surveillance Requirements to operate the Control Room Emergency Ventilation System (CREVS) and the Emergency Exhaust System (EES) for a continuous 10-hour period with applicable heaters operating at a frequency controlled in accordance with the SFCP [Surveillance Frequency Control Program], with requirements to operate these systems for 15 continuous minutes with applicable heaters operating at a frequency controlled in accordance with the SFCP.

These systems are not accident initiators (i.e., their malfunction cannot initiate an accident or transient) and therefore, these changes do not involve a significant increase in the probability of an accident. The proposed system and filter testing changes are consistent with current regulatory guidance for these systems and will continue to assure that these systems perform their design function which may include mitigating accidents. Therefore, the change does not involve a significant increase in the consequences of an accident.

Therefore, it is concluded that this change does not involve a significant increase in the probability or consequences of an accident previously evaluated.

2. Does the proposed change create the possibility of a new or different kind of accident from any accident previously evaluated?

Response: No.

The change proposed for these ventilation systems does not change any system operations or maintenance activities. Testing requirements will be revised and will continue to demonstrate that the Limiting Conditions for Operation are met and the system components are capable of performing their intended safety functions. The change does not create new failure modes or mechanisms and no new accident precursors are generated.

Therefore, it is concluded that this change does not create the possibility of a new or different kind of accident from any accident previously evaluated.

3. Does the proposed change involve a significant reduction in a margin of safety?

Response: No.

The design basis for the ventilation system heaters in the EES and in the pressurization trains of the CREVS includes the capability to heat the incoming air, reducing the relative humidity (and thereby increasing adsorber efficiency). The heater testing change proposed will continue to demonstrate that the heaters are capable of heating the air and will thus perform their design function. The proposed change is consistent with regulatory guidance.

Therefore, it is concluded that this change does not involve a significant reduction in a margin of safety.

The NRC staff has reviewed the licensee's analysis and, based on this review, it appears that the three standards of 10 CFR 50.92(c) are satisfied. Therefore, the NRC staff proposes to determine that the amendment request involves no significant hazards consideration.

Attorney for licensee: John O'Neill, Esq., Pillsbury Winthrop Shaw Pittman LLP, 2300 N Street NW., Washington, DC 20037.

NRC Branch Chief: Michael T. Markley.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions, was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Entergy Operations, Inc., System Energy Resources, Inc., South Mississippi Electric Power Association, and Entergy Mississippi, Inc., Docket No. 50-416, Grand Gulf Nuclear Station, Unit 1, Claiborne County, Mississippi

Date of application for amendment: October 2, 2012, as supplemented by letters dated April 26, June 4, August 15, September 24, September 26, October 14, November 12, December 5, and December 11, 2013.

Brief description of amendment: The amendment revised the Technical Specifications (TS) for the Grand Gulf Nuclear Station, Unit 1 (GGNS) to support operation with 24-month fuel cycles. Specifically, the change revised the frequency of certain TS Surveillance Requirements (SRs) from “18 months” to “24 months,” in accordance with the guidance of NRC's Generic Letter (GL) 91-04, “Changes in Technical Specification Surveillance Intervals to Accommodate a 24-Month Fuel Cycle,” dated April 2, 1991. Consistent with the GL, changes were also made to the Administrative Controls TS Section 5.5.7, “Ventilation Filter Testing Program (VFTP),” to address changes to 18-month frequencies that are specified in NRC Regulatory Guide (RG) 1.52, Revision 2, “Design, Testing, and Maintenance Criteria for Post-Accident Engineered-Safety-Feature Atmosphere Cleanup System Air Filtration and Adsorption Units of Light-Water-Cooled Nuclear Power Plants,” March 1978, to 24-month frequencies. By letter dated December 11, 2013, the licensee withdrew its April 26, 2013, request to modify SR 3.7.7.2 in TS 3.7.7, “Main Turbine Bypass System.” Therefore, the NRC staff neither evaluated a change to, nor changed, the surveillance interval of SR 3.7.7.2.

Date of issuance: December 26, 2013.

Effective date: As of the date of issuance and shall be implemented within 60 days of issuance.

Amendment No: 197.

Facility Operating License No. NPF-29: The amendment revised the Facility Operating License and Technical Specifications.

Date of initial notice in Federal Register: November 13, 2012 (77 FR 67681). The supplemental letters dated April 26, June 4, August 15, September 24, September 26, October 14, November 12, December 5, and December 11, 2013, provided additional information that clarified the application, did not expand the scope of the application as originally noticed, and did not change the staff's original proposed no significant hazards consideration determination as published in the Federal Register.

The Commission's related evaluation of the amendment is contained in a Safety Evaluation dated December 26, 2013.

No significant hazards consideration comments received: No.

Northern States Power Company—Minnesota (NSPM), Docket No. 50-263, Monticello Nuclear Generating Plant (MNGP), Wright County, Minnesota

Date of application for amendment: December 11, 2008, as supplemented by letters dated, May 20, 2008, May 28, 2008, May 30, 2008, June 3, 2008, June 5, 2008, June 12, 2008, June 25, 2008, December 11, 2008, January 29, 2009, February 4, 2009 (2 letters), February 17, 2009, February 24, 2009, March 19, 2009, April 22, 2009, May 13, 2009, May 26, 2009, May 28, 2009, May 29, 2009, June 12, 2009, June 16, 2009, July 13, 2009, July 23, 2009, August 12, 2009 (2 letters), August 19, 2009, August 21, 2009 (2 letters), August 26, 2009, August 31, 2009, October 1, 2009, January 25, 2010, April 6, 2010, December 21, 2010, June 30, 2010, April 5, 2011, July 7, 2011, August 30, 2011, November 11, 2011, January 13, 2012, July 19, 2012, July 19, 2012, September 28, 2012, October 21, 2012, October 22, 2012, October 30, 2012, November 30, 2012, January 21, 2013, January 31, 2013, February 22, 2013, February 27, 2013, March 7, 2013, March 18, 2013, March 21, 2013, March 29, 2013, April 10, 2013, May 13, 2013, May 30, 2013, June 26, 2013, July 8, 2013, July 18, 2013 (2 letters), August 2, 2013, September 30, 2013, and November 8, 2013.

Brief description of amendment: The amendment increased the authorized maximum licensed thermal power level from the current licensed thermal power of 1,775 megawatts thermal (MWt) to 2,004 MWt, which is an increase of approximately 13 percent. The proposed increase in power level is considered an extended power uprate.

Date of issuance: December 9, 2013.

Effective date: As of the date of issuance and shall be implemented within 60 days of issuance.

Amendment No: 176.

Renewed Facility Operating License No. DPR-22: The amendment revised the Renewed Facility Operating License and Technical Specifications.

Date of initial notice in Federal Register: January 23, 2009 (74 FR 4252). The supplemental letters dated May 20, 2008, May 28, 2008, May 30, 2008, June 3, 2008, June 5, 2008, June 12, 2008, June 25, 2008, December 11, 2008, January 29, 2009, February 4, 2009 (2 letters), February 17, 2009, February 24, 2009, March 19, 2009, April 22, 2009, May 13, 2009, May 26, 2009, May 28, 2009, May 29, 2009, June 12, 2009, June 16, 2009, July 13, 2009, July 23, 2009, August 12, 2009 (2 letters), August 19, 2009, August 21, 2009 (2 letters), August 26, 2009, August 31, 2009, October 1, 2009, January 25, 2010, April 6, 2010, December 21, 2010, June 30, 2010, April 5, 2011, July 7, 2011, August 30, 2011, November 11, 2011, January 13, 2012, July 19, 2012, July 19, 2012, September 28, 2012, October 21, 2012, October 22, 2012, October 30, 2012, November 30, 2012, January 21, 2013, January 31, 2013, February 22, 2013, February 27, 2013, March 7, 2013, March 18, 2013, March 21, 2013, March 29, 2013, April 10, 2013, May 13, 2013, May 30, 2013, June 26, 2013, July 8, 2013, July 18, 2013 (2 letters), August 2, 2013, September 30, 2013, and November 8, 2013, provided additional information that clarified the application, did not expand the scope of the application as originally noticed, and did not change the staff's original proposed no significant hazards consideration determination as published in the Federal Register.

The Commission's related evaluation of the amendment is contained in a Safety Evaluation dated December 9, 2013.

No significant hazards consideration comments received: No.

Dated at Rockville, Maryland, this 10th day of January 2014.
For the Nuclear Regulatory Commission.
Michele G. Evans,
Director, Division of Operating Reactor Licensing, Office of Nuclear Reactor Regulation.

[FR Doc. 2014-00877 Filed 1-17-14; 8:45 am]

BILLING CODE 7590-01-P